POSTAL REGULATORY COMMISSION

Sunshine Act Meetings

TIME AND DATE: Wednesday, October 9, 2013, at 11 a.m.

PLACE: Commission Hearing Room, 901 New York Avenue NW., Suite 200, Washington, DC 20268-0001.

STATUS: Part of this meeting will be open to the public. The rest of the meeting will be closed to the public. The open session will be audiocast. The audiocast may be accessed via the Commission's Web site at http://www.prc.gov. A period for public comment will be offered following consideration of the last numbered item in the open session.

MATTERS TO BE CONSIDERED: The agenda for the Commission's October 9, 2013 meeting includes the items identified below.

PORTIONS OPEN TO THE PUBLIC: 1. Report from the Office of Public Affairs and Government Relations on legislative activities and the handling of rate and service inquiries from the public.

2. Report from the Office of General Counsel on the status of Commission dockets.

3. Report from the Office of Accountability and Compliance.

4. Report from the Office of the Secretary and Administration.

PORTION CLOSED TO THE PUBLIC: 5. Discussion of pending litigation.

CONTACT PERSON FOR MORE INFORMATION: Stephen L. Sharfman, General Counsel, Postal Regulatory Commission, 901 New York Avenue NW., Suite 200, Washington, DC 20268-0001, at 202-789-6820 (for agenda-related inquiries) and Shoshana M. Grove, Secretary of the Commission, at 202-789-6800 or shoshana.grove@prc.gov (for inquiries related to meeting location, changes in date or time of the meeting, access for handicapped or disabled persons, the audiocast, or similar matters). The Commission's Web site may also provide information on changes in the date or time of the meeting.

By direction of the Commission.
Shoshana M. Grove,
Secretary.

[FR Doc. 2013-24102 Filed 9-27-13; 4:15 pm]

BILLING CODE 7710-FW-P